Title 3—

The President

Proclamation 7422 of April 4, 2001

National Organ and Tissue Donor Awareness Week, 2001

By the President of the United States of America

A Proclamation

Organ and tissue transplantation is one of the most significant advances in medicine. Wonderful success stories give hope to people of all ages, and donors and their families deserve our deepest gratitude. Their extraordinary generosity and foresight have given countless individuals the opportunity to rear a family, hold a job, and pursue fuller and more active lives.

Unfortunately, many people are not able to reap the benefits of remarkable transplant technology. More than 75,000 Americans are on the national organ transplant waiting list, and every 13 minutes, another person will be added to the waiting list. Sadly, each day, 15 of those on the waiting list will die because the need for organs far exceeds the number donated.

The Department of Health and Human Services and health professionals across the country are dedicated to improving these statistics. By becoming organ donors, Americans can join in this important mission to help those suffering from a life- threatening illness caused by the failure of a vital organ. Persons can participate by simply completing and carrying a donor card and informing family and friends of their wish to donate. Such decisions will make a significant difference in the number of available organs for donation.

Many Americans have set a powerful example in this regard, agreeing to become an organ donor and taking a selfless action that may potentially save lives. I encourage other Americans to consider organ donation and to join me in expressing gratitude for those who have already made the gift of life.

NOW, THEREFORE, I, GEORGE W. BUSH, President of the United States of America, by virtue of the authority vested in me by the Constitution and laws of the United States, do hereby proclaim April 15 through 21, 2001, as National Organ and Tissue Donor Awareness Week. I call upon medical professionals, government agencies, private organizations, and educators to join me in raising awareness of the need for organ donors in communities throughout our Nation.

IN WITNESS WHEREOF, I have hereunto set my hand this fourth day of April, in the year of our Lord two thousand one, and of the Independence of the United States of America the two hundred and twenty-fifth.

B

[FR Doc. 01-8834

Filed 4-6-01; 8:45 am]

Billing code 3195-01-P